DEPARTMENT OF ENERGY

Office of Energy Efficiency and Renewable Energy

Notice of Request for Information on Solar Energy Technology Analysis & Data Needs

AGENCY: Office of Energy Efficiency and Renewable Energy, Department of Energy.

ACTION: Notice of request for information.

SUMMARY: The U.S. Department of Energy (DOE) invites public comment on its Request for Information (RFI) number DE-FOA-0001818 regarding the Solar Energy Technology Analysis & Data Needs. DOE's Solar Energy Technologies Office (SETO) is requesting input on integrated data and analysis needs across the solar value chain to inform near to mid-term plans for the development of resources such as information based network planning, real time optimization, and bankability tools in the context of DOE's SunShot 2030 goals. SETO aims to better understand the information-related problems and questions that exist for key stakeholders, including manufacturers, project developers, financiers, engineering procurement and construction businesses, state and local jurisdictions, researchers, analysts, and others supporting the technological advancement and wide scale adoption of solar technology.

DATES: Responses to the RFI must be received by October 6, 2017.

ADDRESSES: Interested parties are to submit comments electronically to solaranalysis@ee.doe.gov no later than 5:00 p.m. (ET) on October 6, 2017. Include Solar Energy Technology Analysis & Data Needs in the subject of the title. Responses must be provided as attachments to an email and only electronic responses will be accepted. Please identify your answers by responding to a specific question or topic if applicable. Respondents may answer as many or as few questions as they wish. Respondents are requested to provide the following information at the start of their response to this RFI:

• Company/institution name;

• Company/institution contact;

• Contact's address, phone number, and email address.

The complete RFI document is located at https://eere-exchange.energy.gov/.

FOR FURTHER INFORMATION CONTACT: Questions may be addressed to Dr. Casey Canfield, ORISE Fellow, U.S. Department of Energy, Office of Energy Efficiency and Renewable Energy, Solar Energy Technologies Office, EE-4S, 1000 Independence Ave. SW., Washington, DC 20585. Telephone: 202-287-1783. Email: solaranalysis@ee.doe.gov. Further instruction can be found in the RFI document posted on EERE Exchange.

SUPPLEMENTARY INFORMATION: SETO is requesting information about (1) how the U.S. solar industry and application space use and value existing resources, (2) needs that can be addressed with data access, research, and analysis, and (3) opportunities to better engage stakeholders on the use and development of these resources. Over the past three years, a variety of high-quality informational resources on solar energy technology have been created by a diverse group of organizations, including universities, consultants, companies, technology developers, and the national laboratories. By cataloguing the specific information resources that the industry relies on, SETO hopes to better understand the vision driving innovation and identify gaps in knowledge creation or exchange. SETO is also interested in understanding the channels through which stakeholders access information so that future SETO-funded analysis can be disseminated as widely and effectively as possible. In addition, SETO is interested in understanding to what degree stakeholders are interested in being engaged in the development process of new tools and resources.

The RFI is available at: https://eere-exchange.energy.gov/.

Confidential Business Information

Pursuant to 10 CFR 1004.11, any person submitting information that he or she believes to be confidential and exempt by law from public disclosure should submit via email two well marked copies: One copy of the document marked “confidential” including all the information believed to be confidential, and one copy of the document marked “non-confidential” with the information believed to be confidential deleted. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Issued in Washington, DC, on September 12, 2017.
Ebony Vauss,
Acting Director, Solar Energy Technologies Office, Energy Efficiency and Renewable Energy.

[FR Doc. 2017-19775 Filed 9-15-17; 8:45 am]

BILLING CODE 6450-01-P